DEPARTMENT OF THE INTERIOR

Bureau of Land Management

[19X LLUTW01000 LXX0000.XX0000, UTU-78501]

Notice of Proposed Withdrawal Extension, Diamond Fork System, Bonneville Unit of the Central Utah Project, Public Land Order No. 7422, and Opportunity for Public Meeting, Utah

AGENCY: Bureau of Land Management, Interior.

ACTION: Notice.

SUMMARY: The Assistant Secretary—Land and Minerals Management (ASLM) on behalf of the Central Utah Project Completion Act Office (CUPCAO), proposes to extend the duration of Public Land Order (PLO) No. 7422 for an additional 20-year term. PLO No. 7422 withdrew approximately 2,795 acres of National Forest System lands from location and entry under the United States mining laws, but not from leasing under the mineral leasing laws, to protect the Diamond Fork System, Bonneville Unit of the Central Utah Project. This Notice advises the public of an opportunity to comment on the proposed withdrawal extension and to request a public meeting. This Notice also corrects the projects acreage figure for the lands and corrects the Bureau of Land Management's (BLM) serial register number assigned to the official case record of the withdrawal.

DATES: Comments and requests for a public meeting must be received by July 9, 2019.

ADDRESSES: All comments and public meeting requests may be made by any of the following methods:

• Email: utslmail@blm.gov.

• Mail: BLM Salt Lake Field Office, Attention: Diamond Fork Withdrawal Extension Project, 2370 S Decker Lake Blvd., West Valley City, Utah 84119.

FOR FURTHER INFORMATION CONTACT: Allison Ginn, Assistant Field Manager, BLM Salt Lake Field Office, 801-977-4300, or by email utslmail@blm.gov. Persons who use a telecommunications device for the deaf (TDD) may call the Federal Relay Service (FRS) at 1-800-877-8339 to contact the above individual during normal business hours. The FRS is available 24 hours a day, 7 days a week, to leave a message or question for the above individual. Replies are provided during normal business hours.

SUPPLEMENTARY INFORMATION: The ASLM proposes to extend the withdrawal established by PLO No. 7422 for an additional 20-year term to provide for the construction, operation, and maintenance of the Diamond Fork System. A land survey report of PLO No. 7422 (64 FR 71467, (1999)) corrects the acreage withdrawn from 2,795 acres to 2,714.22 acres with no change to the legal land description. PLO No. 7422 is incorporated herein by reference with the official record maintained under Utah Serial Number UTU-78501. PLO No. 7422 will expire on December 20, 2019, unless extended. Background information on the Central Utah Project can be accessed online at: https://www.cupcao.gov.

The life of the Diamond Fork System is expected to exceed 100 years, necessitating an extension of the current withdrawal. The lands withdrawn from location and entry under the United States mining laws would continue to be available for leasing under the mineral leasing laws. The withdrawal made by PLO No. 7422 does not alter the applicability of those land laws governing the use of the National Forest System lands under lease, license, or permit, or governing the disposal of their mineral or vegetative resources other than under the mining laws.

The use of a right-of-way, interagency agreement, or cooperative agreement would not constrain nondiscretionary uses.

There are no suitable alternative sites since the land described in PLO No. 7422 contains the developed infrastructure of the Diamond Fork System.

No additional water rights would be needed to fulfill the purpose of the requested withdrawal extension.

Any persons who wish to submit comments, suggestions, or objections in connection with the proposed withdrawal extension may present their views in writing to the BLM Salt Lake Field Office at the address stated above. The petition/application and the case file pertaining to the proposed withdrawal extension are available for public inspection at the BLM Salt Lake Field Office, during regular business hours, 8:00 a.m. to 4:30 p.m., Monday through Friday, excluding Federal holidays and emergency closures.

Before including your address, phone number, email address, or other personal identifying information in you comment, you should be aware that your entire comment—including your personal identifying information—may be made publicly available at any time. While you can ask us in your comment to withhold your personal identify information from public review, we cannot guarantee that we will be able to do so.

Notice is hereby given that an opportunity for a public meeting is afforded in connection with the proposed withdrawal extension. All interested persons who desire a public meeting for the purpose of being heard on the proposed withdrawal extension must submit a written request to the BLM Salt Lake Field Office at the address stated above on or before July 9, 2019. If the authorized officer determines that a public meeting will be held, a notice of the date, time, and place will be published in the Federal Register, a newspaper of general circulation, and posted on the BLM website (www.blm.gov/utah) at least 30 days before the scheduled date of the meeting.

The withdrawal extension application will be processed in accordance with the regulations set forth in 43 CFR 2310.4.

Authority: 43 CFR 2310.3-1.

Dated: April 3, 2019.
Joseph R. Balash,
Assistant Secretary—Land and Minerals Management.

[FR Doc. 2019-07034 Filed 4-9-19; 8:45 am]

BILLING CODE 4310-DQ-P